DEPARTMENT OF ENERGY

Federal Energy Regulatory Commission

[Docket No. ER00-803-005, et al.]

PECO Energy Company, et al.; Electric Rate and Corporate Regulation Filings

April 18, 2001.

Take notice that the following filings have been made with the Commission:

1. PECO Energy Company

[Docket No. ER00-803-005]

Take notice that on April 13, 2001, PECO Energy Company (PECO) tendered for filing a compliance filing consisting of complete copies of fourteen Interconnection Agreements between PECO and Exelon Generation Company, L.L.C. (ExGen) or its subsidiary Susquehanna Electric Company (SECO) designated as PECO's First Revised Rate Schedules FERC No. 124-133 and 135-138, to be effective on January 12, 2001.

This compliance filing is being made pursuant to the Commission's Order dated March 14, 2001 in PECO Energy Company, Docket No. ER00-803-003, 94 FERC ¶ 61,256.

Copies of this filing were served on ExGen, the Pennsylvania Public Utility Commission and parties on the service list in this docket.

Comment date: May 4, 2001, in accordance with Standard Paragraph E at the end of this notice.

2. PECO Energy Company

[Docket No. ER00-803-006]

Take notice that on April 13, 2001, PECO Energy Company (PECO) tendered for filing a compliance filing consisting of corrected sheets to an Interconnection Agreement between PECO and the joint owners of the Peach Bottom Atomic Power Station designated as PECO's Rate Schedule FERC No. 134, to be effective on January 12, 2001.

This compliance filing is being made pursuant to the Commission's Order dated March 14, 2001 in PECO Energy Company, Docket No. ER00-803-001, 94 FERC ¶ 61,256.

Copies of this filing were served on the joint owners of the generating facility, the Pennsylvania Public Utility Commission and parties on the service list in this docket.

Comment date: May 4, 2001, in accordance with Standard Paragraph E at the end of this notice.

3. PJM Interconnection, L.L.C.

[Docket No. ER00-3513-003]

Take notice that on April 13, 2001, PJM Interconnection, L.L.C. (PJM) tendered for filing proposed amendments to the PJM Open Access Transmission Tariff and the Amended and Restated Operating Agreement of PJM Interconnection, L.L.C. PJM states that it submits the amendments to comply with PJM Interconnection, L.L.C., 94 FERC ¶ 61,251 (2001).

PJM states that it served copies of this filing on all parties of record, all PJM Members and the state electric regulatory commissions in the PJM control area.

Comment date: May 4, 2001, in accordance with Standard Paragraph E at the end of this notice.

4. Arizona Public Service Company

[Docket No. ER01-463-003]

Take notice that on April 13, 2001, Arizona Public Service Company (APS) tendered for filing its Compliance to FERC's Order on Rehearing in Docket No. ER01-463-001.

A copy of this filing has been served on all parties on the official service list.

Comment date: May 4, 2001, in accordance with Standard Paragraph E at the end of this notice.

5. California Independent System Operator Corporation

[Docket No. ER01-836-003]

Take notice that on April 13, 2001, the California Independent System Operator Corporation (ISO) tendered for filing revisions to the ISO Tariff in compliance with the Commission's March 14, 2001, order on Amendment No. 35 to the ISO Tariff, California Independent System Operator Corporation, 94 FERC ¶ 61,266 (2001).

The ISO states that this filing has been served upon all parties on the official service list in this proceeding.

Comment date: May 4, 2001, in accordance with Standard Paragraph E at the end of this notice.

6. PECO Energy Company

[Docket No. ER01-935-001]

Take notice that on April 13, 2001, PECO Energy Company (PECO) tendered for filing a compliance filing concerning the Interconnection Agreement between PECO and Exelon Generation Company, L.L.C. (ExGen) designated as Service Agreement No. 544 under PJM Interconnection, L.L.C.'s FERC Electric Tariff, Third Revised Volume No. 1 and effective on January 10, 2001. This compliance filing is being made pursuant to the Commission's Letter Order dated March 8, 2001 in the above-referenced proceeding and its Order dated March 14, 2001 at PJM Interconnection, L.L.C., 94 FERC ¶ 61,251.

Copies of this filing were served on ExGen, PJM Interconnection L.L.C., the Pennsylvania Public Utility Commission and on all parties on the official service list for this proceeding.

Comment date: May 4, 2001, in accordance with Standard Paragraph E at the end of this notice.

7. Exelon Generation Company, LLC PECO Energy Company

[Docket No. ER01-1147-001]

Take notice that on April 13, 2001, Exelon Generation Company, LLC, and PECO Energy Company tendered for filing compliance versions of their market-based rate power sales tariffs designated in a manner that complies with the requirements of Order No. 614.

Comment date: May 4, 2001, in accordance with Standard Paragraph E at the end of this notice.

8. American Ref-Fuel Company of Niagara, L.P.

[Docket No. ER01-1302-001]

Take notice that on April 13, 2001, American Ref-Fuel Company of Niagara, L.P. tendered for filing a redesignated FERC Electric Tariff, designated in accordance with Order No. 614 and in compliance with the letter order issued in this docket on April 12, 2001.

Comment date: May 4, 2001, in accordance with Standard Paragraph E at the end of this notice.

9. Avista Energy, Inc.

[Docket No. ER01-1446-003]

Take notice that on April 11, 2001, Avista Energy, Inc. tendered for filing a compliance filing in this docket.

Comment date: May 2, 2001, in accordance with Standard Paragraph E at the end of this notice.

10. American Electric Power Service Corporation

[Docket No. ER01-1788-000]

Take notice that on April 13, 2001, the American Electric Power Service Corporation (AEPSC) tendered for filing an executed Interconnection Agreement between West Texas Utilities Company and FPL Energy Pecos Wind One, LP. The agreement is pursuant to the AEP Companies' Open Access Transmission Service Tariff (OATT) that has been designated as the Operating Companies of the American Electric Power System FERC Electric Tariff Revised Volume No. 6, effective June 15, 2000.

AEP requests an effective date of June 12, 2001. A copy of the filing was served upon the Public Utility Commission of Texas (PUCT).

Comment date: May 4, 2001, in accordance with Standard Paragraph E at the end of this notice.

11. Illinois Power Company

[Docket No. ER01-1789-000]

Take notice that on April 13, 2001, Illinois Power Company (Illinois Power), 500 South 27th Street, Decatur, Illinois 65251-2200, tendered for filing with the Commission the First Amendment to Service Agreement for Network Integration Transmission Service entered into with Tri-County Electric Cooperative, Inc. (Tri-County) pursuant to Illinois Power's Open Access Transmission Tariff.

Illinois Power requests an effective date of April 1, 2001 for the First Amendment and accordingly seeks a waiver of the Commission's notice requirement. Illinois Power states that a copy of this filing has been sent to Tri-County.

Comment date: May 4, 2001, in accordance with Standard Paragraph E at the end of this notice.

12. Public Service Company of Oklahoma

[Docket No. ER01-1790-000]

Take notice that on April 13, 2001, Public Service Company of Oklahoma (PSO) tendered for filing a Supplement to the Interconnection Agreement with Calpine Oneta Power, L.P.

AEP requests an effective date of June 12, 2001. Copies of PSO's filing has been served upon the Calpine and the Oklahoma Corporation Commission.

Comment date: May 4, 2001, in accordance with Standard Paragraph E at the end of this notice.

13. Niagara Mohawk Power Corporation

[Docket No. ER01-1791-000]

Take notice that on April 13, 2001, Niagara Mohawk Power Corporation tendered for filing an Interconnection Agreement between Niagara Mohawk Power Corporation and Canastota Wind Power, LLC for a 30 MW wind-powered generating facility located in the Town of Fenner, Madison County, New York, dated as of April 2, 2001. The filing is designated as FERC Electric Rate Schedule No. 306.

An Interconnection Agreement effective date of May 15, 2001 is requested and to the extent necessary, Niagara Mohawk requests waiver of any Commission requirement that a rate schedule be filed not less than 60 days or more than 120 days from its effective date.

Comment date: May 4, 2001, in accordance with Standard Paragraph E at the end of this notice.

14. Entergy Services, Inc.

[Docket No. ER01-1792-000]

Take notice that on April 13, 2001 Entergy Services, Inc. (Entergy Services), on behalf of Entergy Arkansas, Inc., Entergy Gulf States, Inc., Entergy Louisiana, Inc., Entergy Mississippi, Inc., and Entergy New Orleans, Inc. (collectively, the Entergy Operating Companies), tendered for filing a Short-Term Market Rate Sales Agreement between Entergy Services, as agent for the Entergy Operating Companies, and the Hodge Utilities Operating Company, as agent for the Village of Hodge, for the sale of power under Entergy Services' Rate Schedule SP.

Comment date: May 4, 2001, in accordance with Standard Paragraph E at the end of this notice.

15. Allegheny Energy Service Corporation on behalf of Allegheny Energy Supply Company, LLC

[Docket No. ER01-1793-000]

Take notice that on April 13, 2001, Allegheny Energy Service Corporation on behalf of Allegheny Energy Supply Company, LLC (Allegheny Energy Supply) tendered for filing Service Agreement Nos. 112 through 120 to add nine (9) new Customers to the Market Rate Tariff under which Allegheny Energy Supply offers generation services. Allegheny Energy Supply requests a waiver of notice requirements for an effective date of March 16, 2001 for Automated Power Exchange, Inc., Avista Energy, Inc., Axia Energy, L.P., Arizona Public Service Company, DP&L Power Services, Enron North America Corp., Idaho Power Marketing, San Diego Gas & Electric Company and Tennessee Valley Authority ESO.

Copies of the filing have been provided to the Public Utilities Commission of Ohio, the Pennsylvania Public Utility Commission, the Maryland Public Service Commission, the Virginia State Corporation Commission, the West Virginia Public Service Commission, and all parties of record.

Comment date: May 4, 2001, in accordance with Standard Paragraph E at the end of this notice.

16. American Electric Power Service Corporation

[Docket No. ER01-1794-000]

Take notice that on April 13, 2001, the American Electric Power Service Corporation (AEPSC) tendered for filing executed Interconnection Agreements between West Texas Utilities Company and Upton Wind, LP. The agreements are pursuant to the AEP Companies' Open Access Transmission Service Tariff (OATT) that has been designated as the Operating Companies of the American Electric Power System FERC Electric Tariff Revised Volume No. 6, effective June 15, 2000.

AEP requests an effective date of June 12, 2001 for King Mountain NW and SW and June 12, 2001 for King Mountain NE and SE. A copy of the filing was served upon the Public Utility Commission of Texas (PUCT).

Comment date: May 4, 2001, in accordance with Standard Paragraph E at the end of this notice.

17. Central Maine Power Company

[Docket No. ER01-1795-000]

Please take notice that on April 13, 2001, Central Maine Power Company (CMP) tendered for filing the First Amendment to the Interconnection Agreement by and between CMP and Boralex Athens Energy Inc., designated rate schedule FERC Electric Tariff, First Revised, Volume No. 3, Service Agreement No. 35.

Comment date: May 4, 2001, in accordance with Standard Paragraph E at the end of this notice.

18. Commonwealth Edison Company Commonwealth Edison Company of Indiana

[Docket No. ER01-1796-000]

Take notice that on April 12, 2001, Commonwealth Edison Company and Commonwealth Edison Company of Indiana (collectively ComEd) tendered for filing its OATT, which had been reformatted to conform with the Tariff, Rate Schedule and Service Agreement Pagination Guidelines set forth by the Commission in Order No. 614. ComEd further states that the purpose of this filing is to bring its OATT into conformance with Order 614 and ComEd is not amending any language or provision of its OATT in this filing. Copies of the reformatted OATT may be downloaded from www.comedtransmission.com.

ComEd requests an effective date of June 12, 2001.

Comment date: May 3, 2001, in accordance with Standard Paragraph E at the end of this notice.

19. PJM Interconnection, L.L.C.

[Docket No. ER01-1799-000]

Take notice that on April 13, 2001, PJM Interconnection, L.L.C. (PJM) tendered for filing five executed service agreements: (i) A service agreement for long-term firm point-to-point transmission service for AES NewEnergy, Inc. (AES); (ii) a service agreement for non-firm point-to-point transmission service for AES; (iii) a service agreement for network integration transmission service under state required retail access programs for AES; (iv) a service agreement for long-term firm point-to-point transmission service for FirstEnergy Services Corporation (FirstEnergy); and (v) a service agreement for non-firm point-to-point transmission service for FirstEnergy.

The service agreements were filed due to corporate name changes and will replace service agreements currently on file with the Commission reflecting the former corporate names.

Copies of this filing were served on AES, FirstEnergy, and the affected state electric utility regulatory commissions.

Comment date: May 4, 2001, in accordance with Standard Paragraph E at the end of this notice.

20. New Haven Harbor Power LLC, NRG Connecticut Power Assets LLC, Bridgeport Harbor Power LLC

[Docket No. EG01-185-000]

Take notice that on April 11, 2001, New Haven Harbor Power LLC (NHHP), NRG Connecticut Power Assets LLC (NRG Connecticut) and Bridgeport Harbor Power LLC (BHP) tendered for filing with the Federal Energy Regulatory Commission (Commission ) an application for determination of exempt wholesale generator status pursuant to Part 365 of the Commission's regulations.

Comment date: May 9, 2001, in accordance with Standard Paragraph E at the end of this notice. The Commission will limit its consideration of comments to those that concern the adequacy or accuracy of the application.

21. ANP Bellingham Energy Company, LLC

[Docket No. EG01-186-000]

Take notice that on April 13, 2001, ANP Bellingham Energy Company, LLC (ANP Bellingham), a Delaware limited liability company with its principal place of business at Houston, Texas, filed with the Federal Energy Regulatory Commission an application for determination of exempt wholesale generator status pursuant to Part 365 of the Commission's regulations.

Applicant intends to construct an approximate 550 MW natural gas-fired combined cycle independent power production facility in Bellingham, Massachusetts (the Facility). The Facility is currently under development and will be owned by Applicant. Electric energy produced by the Facility will be sold by Applicant to the wholesale power market in the northeast United States.

Comment date: May 9, 2001, in accordance with Standard Paragraph E at the end of this notice. The Commission will limit is consideration of comments to those that concern the adequacy or accuracy of the application.

22. ANP Blackstone Energy Company, LLC

[Docket No. EG01-187-000]

Take notice that on April 13, 2001, ANP Blackstone Energy Company, LLC (ANP Blackstone), a Delaware limited liability company with its principal place of business at Houston, Texas, filed with the Federal Energy Regulatory Commission an application for determination of exempt wholesale generator status pursuant to Part 365 of the Commission's regulations.

Applicant intends to construct an approximate 550 MW natural gas-fired combined cycle independent power production facility in Blackstone, Massachusetts (the Facility). The Facility is currently under development and will be owned by Applicant. Electric energy produced by the Facility will be sold by Applicant to the wholesale power market in the northeast United States.

Comment date: May 9, 2001, in accordance with Standard Paragraph E at the end of this notice. The Commission will limit its consideration of comments to those that concern the adequacy or accuracy of the application.

23. Energía y Agua Pura de Cozumel, S. de R.L. de C.V.

[Docket No. EG01-188-000]

Take notice that on April 13, 2001, Energía y Agua Pura de Cozumel, S. de R.L. de C.V., Prolongaci n Avenida Claudio Canto Anduze, Esquina Leonides Garcia, Cozumel, Quintana Roo, Mexico (Applicant), filed with the Federal Energy Regulatory Commission an application for determination of exempt wholesale generator status pursuant to Part 365 of the Commission's regulations.

Applicant is a limited liability company organized under the law of Mexico. Applicant owns the Cozumel Facility, consisting of one heavy fuel oil-fired diesel engine generation power plant, including interconnection and related fuel storage facilities, with a total net capacity of approximately 25 MW. The Facility is located on the island of Cozumel, in the State of Quintana Roo, Mexico. Applicant is engaged directly and exclusively in the business of owning and operating a facility selling electric energy for sale at wholesale (and, consistent with EWG status, will also engage in foreign retail sales). No rate or charge for, or in connection with, the construction of the Facility, or for electric energy produced by the Facility, was in effect under the laws of any State of the United States on October 24, 1992.

Copies of this application have been served upon the Securities and Exchange Commission.

Comment date: May 9, 2001, in accordance with Standard Paragraph E at the end of this notice. The Commission will limit its consideration of comments to those that concern the adequacy or accuracy of the application.

24. Emmett Power Company

[Docket No. EG01-189-000]

Take notice that on April 16, 2001, Emmett Power Company, Emmett, Idaho, filed with the Federal Energy Regulatory Commission an application for determination of exempt wholesale generator status pursuant to Part 365 of the Commission's regulations.

As more fully described in the Application, Emmett Power Company owns and operates a cogeneration facility consisting of two wood/natural gas fired boilers and 14-megawatt extraction turbine.

Comment date: May 9, 2001, in accordance with Standard Paragraph E at the end of this notice. The Commission will limit its consideration of comments to those that address the adequacy or accuracy of the application.

25. California Cogeneration Council, et al.

[Docket No. EL01-64-000]

Take notice that on April 5, 2001, the California Cogeneration Council (CCC) submitted for filing, on behalf of itself and its member companies, a Petition for an Enforcement Action pursuant to Section 210(h)(2)(B) of the Public Utility Regulatory Policies Act of 1978 (PURPA), 16 U.S.C. 824a-3(h)(2)(B) (2000), and Rule 207 of the Commission's Rules of Practice and Procedure, 18 CFR 385.207.

CCC alleges that Decision 01-03-067, issued by the California Public Utilities Commission (CPUC) on March 27, 2001 (Decision), violates PURPA Section 210, 16 U.S.C. 824a-3 which requires, inter alia, that rates for purchases from QFs shall not exceed incremental cost to the utility, nor shall those rates discriminate against qualifying cogenerators or small power producers. The CPUC decision changes the formula by which avoided cost rates are calculated. This change violates PURPA, CCC alleges, for three reasons: (i) QFs will receive less than their full avoided, or incremental, costs for power produced; (ii) the Decision results in discrimination against QFs as compared to wholesalers and investor-owned utilities, particularly Pacific Gas & Electric Co. and (iii) the Decision discourages cogeneration and is not in the public interest. CCC asks this Commission to institute an enforcement action and take prompt action to grant relief to the QFs from the Decision.

Comment date: May 7, 2001, in accordance with Standard Paragraph E at the end of this notice.

26. Vineland Cogeneration Limited Partnership

[Docket No. QF90-176-003]

Take notice that on April 12, 2001, Vineland Cogeneration Limited Partnership, 536 West Elmer Road, Vineland, NJ 08360, filed with the Federal Energy Regulatory Commission an application for recertification of a facility as a qualifying cogeneration facility pursuant to Section 292.207(b) of the Commission's regulations.

The Commission previously certified the facility as a qualifying cogeneration facility in Docket No. QF90-176-001. Recertification is sought to reflect a change in the upstream ownership interests in the facility.

The facility is an approximately 46.6 MW (net) topping-cycle cogeneration facility located in Vineland, New Jersey. The facility is interconnected with and supplies electric power to the Vineland Municipal Electric Utility.

Comment date: May 14, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-10190 Filed 4-24-01; 8:45 am]

BILLING CODE 6717-01-P